ENVIRONMENTAL PROTECTION AGENCY

40 CFR Part 52

[EPA-R07-OAR-2021-0405; FRL-8708-01-R7]

Air Plan Approval; Approval of Missouri Air Quality Implementation Plans; Revisions to St. Louis 1997 PM2.5 Maintenance Plan

AGENCY: Environmental Protection Agency (EPA).

ACTION: Proposed rule.

SUMMARY: The Environmental Protection Agency (EPA) is proposing to approve a State Implementation Plan (SIP) revision submitted by the State of Missouri on November 12, 2019, revising the maintenance plan demonstrating continued maintenance of the 1997 PM2.5 National Ambient Air Quality Standards (NAAQS) in the St. Louis area. This revision states that the St. Louis area no longer needs to rely on the vehicle Inspection and Maintenance (I/M) program and the use of Reformulated Gasoline (RFG) for continued maintenance throughout the maintenance period for the 1997 PM2.5 NAAQS. EPA is proposing to determine that this revision meets the requirements of the Clean Air Act.

DATES: Comments must be received on or before August 27, 2021.

ADDRESSES: You may send comments, identified by Docket ID No. EPA-R07-OAR-2021-0405 to https://www.regulations.gov. Follow the online instructions for submitting comments.

Instructions: All submissions received must include the Docket ID No. for this rulemaking. Comments received will be posted without change to https://www.regulations.gov/, including any personal information provided. For detailed instructions on sending comments and additional information on the rulemaking process, see the “Written Comments” heading of the SUPPLEMENTARY INFORMATION section of this document.

FOR FURTHER INFORMATION CONTACT: Steven Brown, Environmental Protection Agency, Region 7 Office, Air Quality Planning Branch, 11201 Renner Boulevard, Lenexa, Kansas 66219; telephone number: (913) 551-7718; email address: brown.steven@epa.gov.

SUPPLEMENTARY INFORMATION: Throughout this document “we,” “us,” and “our” refer to the EPA.

Table of Contents

I. Written Comments

II. What is being addressed in this document?

III. Have the requirements for approval of a SIP revision been met?

IV. What action is the EPA proposing to take?

V. Statutory and Executive Order Reviews

I. Written Comments

Submit your comments, identified by Docket ID No. EPA-R07-OAR-2021-0405, at https://www.regulations.gov. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

II. What is being addressed in this document?

The EPA is proposing to approve SIP revisions submitted by the State of Missouri on November 12, 2019, revising the 1997 PM2.5 maintenance plan. This SIP revision demonstrates continued maintenance of the 1997 PM2.5 NAAQS in the St. Louis area through the future year of 2025. The maintenance area boundary includes the Missouri counties of Franklin, Jefferson, St. Charles, and St. Louis along with the City of St. Louis.

Through this action, the Missouri Department of Natural Resources (MoDNR) is requesting EPA to approve this maintenance plan into Missouri's SIP pursuant to Clean Air Act (CAA) Section 175A as a replacement to the maintenance plan previously approved by EPA on October 2, 2018 (83 FR 38033).

On August 3, 2018, EPA published in the Federal Register a final rulemaking approving the State of Missouri's request to redesignate the Missouri portion of the St. Louis nonattainment area to attainment and their demonstration for maintaining the 1997 PM2.5 NAAQS through the ten-year maintenance period. The effective date for this approval was on October 2, 2018 (83 FR 38033).

The SIP revision we are acting on in this proposal, removes the reliance on the St. Louis vehicle Inspection and Maintenance (I/M) program and the use of Reformulated Gasoline (RFG) for continued maintenance of the 1997 PM2.5 standard. To support this revision, Missouri utilized EPA's 2014 Motor Vehicle Emissions Simulator (MOVES2014b) emission modeling system to project revised mobile source emissions by removing emissions reductions related to I/M and RFG throughout the maintenance period to the future year of 2025.

Tables 1 and 2 below lists the total direct PM2.5 and PM2.5 precursor emissions for the attainment year 2008 and the projection year 2025 for point, area, onroad and nonroad source categories of the five counties in the St. Louis area. Because the area attained the standard in 2008, this represents a level of emissions suitable to maintain compliance with the 1997 PM2.5 standard. By comparing the total emissions in Tables 1 and 2, Missouri's emissions analysis shows substantial decreases in mobile source emissions and decreases in total source category emissions through the maintenance period of 2025. These decreases in direct PM2.5 and precursor pollutants demonstrate the area will continue to meet the 1997 PM2.5 standard throughout the maintenance period without relying on the I/M program or RFG requirements in the Missouri portion of the maintenance area.

Table-1—St. Louis Area 2008 Total Emissions in Tons per Year
State | Source category | NH3 | NOX | PM2.5 | SO2 | VOC
Missouri Area | Point Source | 1,308.64 | 31,103.26 | 3,493.39 | 201,700.73 | 5,067.89
| Area Source | 3,514.98 | 4,382.94 | 14,033.64 | 11,510.48 | 38,215.34
| Onroad Source | 1,056.17 | 58,819.58 | 2,179.28 | 426.65 | 23,793.80
| Nonroad Source | 15.68 | 20,722.57 | 1,199.82 | 544.3 | 11,545.53
Illinois Area | Point Source | 208.31 | 16,608.41 | 2,438.05 | 49,895.15 | 4,270.41
| Area Source | 3,354.13 | 1,638.36 | 4,749.40 | 246.67 | 7,796.35
| Onroad Source | 304.71 | 17,965.82 | 524.49 | 60.26 | 6,741.77
| Nonroad Source | 6.04 | 8,509.49 | 425.04 | 355.25 | 2,944.51
Total Emissions Tons/year |  | 9,768.66 | 159,750.43 | 29,043.11 | 264,739.49 | 100,375.60

Table-2—St. Louis Area 2025 Total Emissions in Tons per Year
State | Source category | NH3 | NOX | PM2.5 | SO2 | VOC
Missouri Area | Point Source | 1,431.04 | 17,051.11 | 1,945.67 | 94,687.19 | 3,106.68
| Area Source | 3,232.53 | 4,937.54 | 6,756.09 | 247.98 | 26,637.27
| Onroad Source | 624.33 | 11,718.99 | 481.94 | 103.27 | 6,569.16
| Nonroad Source | 13.10 | 7,136.63 | 547.21 | 134.85 | 5,664.63
Illinois Area | Point Source | 254.91 | 13,762.60 | 2,219.54 | 44,700.05 | 5,747.23
| Area Source | 3,374.18 | 1,735.21 | 4,668.15 | 268.04 | 9,249.75
| Onroad Source | 178.97 | 3,849.45 | 119.31 | 52.83 | 2,042.78
| Nonroad Source | 8.16 | 8,687.02 | 303.26 | 400.33 | 1,585.08
Total Emissions Tons/year |  | 9,117.22 | 68,878.55 | 17,041.17 | 140,594.54 | 60,602.58

It is important to note approval of this maintenance plan revision does not remove the I/M program or the RFG program requirements from the SIP.

In addition, the motor vehicle emissions budgets (MVEBs) from the previously SIP approved Maintenance Plan for the PM2.5 NAAQS ¹ and this SIP submittal remain the same. Therefore, there are no new MVEBs being created for this SIP revision. Moreover, EPA has revoked the 1997 primary annual PM2.5 NAAQS, which has been replaced by the more health protective 2012 primary annual PM2.5 NAAQS and Missouri is currently in compliance with this standard (84 FR 36472). As a result, areas that have been redesignated to attainment for the 1997 annual PM2.5 NAAQS (i.e., maintenance areas for the 1997 annual PM2.5 NAAQS) will no longer be required to make transportation conformity determinations for that NAAQS (81 FR 58010).

¹ 83 FR 38033, August 3, 2018 (effective date of October 2, 2018).

EPA is proposing approval of the revised maintenance plan based on information provided in the emissions projections, modeling results and an evaluation of quality assured air monitoring data submitted as part of this revision and in a previously reviewed analysis as part of the St. Louis Nonattainment Area 1997 PM2.5 NAAQS Redesignation rulemaking published on August 3, 2018 (83 FR 38033). Current and future projections of air quality and emissions data for this revision demonstrates maintenance for the 1997 PM2.5 NAAQS.

This revision only affects maintenance for the 1997 PM2.5 standard, only removes the reliance upon the I/M and RFG programs for continued maintenance and therefore meets the requirements of the Clean Air Act.

The full text of the plan revisions including Missouri's technical demonstration can be found in the State's submission, which is included in the docket for this action.

III. Have the requirements for approval of a SIP revision been met?

The State submission has met the public notice requirements for SIP submissions in accordance with 40 CFR 51.102. The submission also satisfied the completeness criteria of 40 CFR part 51, appendix V. The State provided public notice on this SIP revision from July 29, 2019 through September 13, 2019 and received one comment from the Missouri Petroleum Marketers and Convenience Store Association, one comment from Abel Realty, and thirteen comments from EPA. After receiving comments, the state revised the SIP prior to submitting the plan to EPA. In addition, as explained above and in more detail in the Missouri submittal document, which is part of the docket, the revision meets the substantive SIP requirements of the CAA, including section 110 and implementing regulations.

IV. What action is the EPA proposing to take?

We are proposing to approve a SIP revision submitted by the State of Missouri on November 12, 2019, revising the 1997 PM2.5 maintenance plan. EPA is proposing to determine that this revision would not interfere with attainment or maintenance of the NAAQS or with any other CAA requirement. We are processing this as a proposed action because we are soliciting comments on this proposed action. Final rulemaking will occur after consideration of any comments.

V. Statutory and Executive Order Reviews

Under the Clean Air Act (CAA), the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of the National Technology Transfer and Advancement Act (NTTA) because this rulemaking does not involve technical standards; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Incorporation by reference.

Dated: July 19, 2021.
Edward H. Chu,
Acting Regional Administrator, Region 7.

For the reasons stated in the preamble, the EPA proposes to amend 40 CFR part 52 as set forth below:

PART 52—APPROVAL AND PROMULGATION OF IMPLEMENTATION PLANS

1. The authority citation for part 52 continues to read as follows:

Authority: 42 U.S.C. 7401 et seq.

Subpart AA—Missouri

2. In § 52.1320, the table in paragraph (e) is amended by adding the entry “(80)” in numerical order to read as follows:

§ 52.1320 Identification of plan.

* * * * *

(e) * * *

EPA-Appoved Missouri Nonregulatory SIP Provisions
Name of nonregulatory SIP provision | Applicable geographic or nonattainment area | State submittal date | EPA approval date | Explanation
* * * * * * *
(80) Revisions to St. Louis 1997 PM2.5 Maintenance Plan | St. Louis Area: Missouri counties of Franklin, Jefferson, St. Charles, and St. Louis along with the City of St. Louis | 11/12/2019 | [Date of publication of the final rule in the Federal Register], [Federal Register citation of the final rule] | This action replaces the Maintenance plan for the 1997 PM2.5 (83 FR 38033) [EPA-R07-OAR-2017-0734; FRL 9981-29-Region 7].

[FR Doc. 2021-15730 Filed 7-27-21; 8:45 am]

BILLING CODE 6560-50-P